DEPARTMENT OF TRANSPORTATION

Pipeline and Hazardous Materials Safety Administration

Hazardous Materials: Notice of Applications for Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before December 7, 2018.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with part 107 of the Federal hazardous materials transportation law (49 U.S.C. 5117(b); 49 CFR 1.53(b)).

Issued in Washington, DC, on November 1, 2018.
Donald P. Burger,
Chief, General Approvals and Permits Branch.

Special Permits Data
Application No. | Applicant | Regulation(s) affected | Nature of the special permits thereof
20788-N | TRINITY TANK CAR, INC | 172.203(a), 172.302(c), 179.200-10(a), 179.220-10(a), 179.100-9(a), 179.400-11(c) | To authorize the manufacture, mark, sale and use of DOT specification tank car tanks with nozzle flanges manufactured using methods not currently identified in the Association of American Railroads (AAR) Manual of Standards and Recommended Practices, Section C-Part III, Specifications for Tank Cars, Specification M-1002, except as specified herein, for the transportation in commerce of the materials authorized by this special permit. (mode 2).
20789-N | FEDERAL EXPRESS CORPORATION | 172.400(a)(1), 172.202(a)(7), 172.300(a), 173.302(f)(3), 173.302(f)(4), 173.302(f)(5), 173.309(c)(5), 173.168(d)(1), 173.168(e), 175.8(a)(3), 175.30 | To authorize the transportation in air commerce of hazardous materials by cargo aircraft installed in a Crew Rest Module (CRM). (mode 4).
20791-N | LINDE GAS NORTH AMERICA LLC | 172.203(a), 172.301(c), 173.302a(b), 180.205 | To authorize the transportation in commerce of DOT 3AL cylinders that have been visual inspected per CGA C-6 is performed in lieu of the specified internal visual examination and hydrostatic pressure test for DOT 3AL alloy 6061 cylinders. (modes 1, 2, 3, 4, 5).
20795-N | JAGUAR INSTRUMENTS INC | 173.302a(a)(1), 173.304a(a)(1) | To authorize the manufacture, mark, sale, and use of non-DOT specification pressure vessels. (modes 1, 2, 3, 4).
20796-N | SODASTREAM USA, INC | Part 172 Subparts C, D, E, F, and H | To authorize the transportation in commerce of certain DOT 3AL, TC/3ALM and UN ISO 7866 cylinders that contain carbon dioxide, with alternative hazard communication. (modes 1, 2, 3).
20797-N | LINDE GAS NORTH AMERICA LLC | 171.23(a), 173.302a(a)(1), 173.304a(a)(1), 178.71(q)(3) | To authorize the transportation in commerce of Pi marked pressure vessels for intermediate storage, transport to point of use, discharge, and exported without further filling and as well as the imported of certain Pi marked foreign pressure receptacles for filling, disposal of residual gas product, intermediate storage, and export. (modes 1, 2, 3).
20798-N | AMERICASE, LLC | 173.185(a) | To authorize the manufacture, mark, sale, and use of certain 4B and 4G boxes for the transportation in commerce of prototype and low production lithium ion cells and batteries. (modes 1, 2, 3, 4).
20799-N | MULTI-CHEM, INC | 173.40(d)(2), 173.226(a) | To authorize the transportation in commerce of Acrolein, stabilized in DOT 4BW240 cylinders. (modes 1, 3).
20800-N | ATK SPACE SYSTEMS INC | 172.400, 172.500, 172.200, 172.300 | To authorize the transportation in commerce of certain hazardous materials over 0.5 miles of public roadway without being subject to hazard communication requirements. (mode 1).

[FR Doc. 2018-24297 Filed 11-6-18; 8:45 am]

BILLING CODE 4909-60-P